FEDERAL COMMUNICATIONS COMMISSION

Sunshine Act Meeting; Deletion of Agenda Item From November 3, 2005, Open Meeting

November 3, 2005.

The following item has been deleted from the list of Agenda items scheduled for consideration at the Thursday, November 3, 2005, Open Meeting and previously listed in the Commission's Notice of Thursday, October 27, 2005.

Item No. | Bureau | Subject
3 | Media | Title: Digital Television Distributed Transmission System Technologies.
|  | Summary: The Commission will consider a Clarification Order and Notice of Proposed Rulemaking to clarify the interim policy and propose rules for the use of distributed transmission system (“DTS”) technologies by digital television stations.

Federal Communications Commission.
Marlene H. Dortch,
Secretary.

[FR Doc. 05-22351 Filed 11-4-05; 12:22 pm]

BILLING CODE 6712-01-P